DEPARTMENT OF HEALTH AND HUMAN SERVICES

Administration for Children and Families

Submission for OMB Review; Comment Request

Title: Immediate Disaster Case Management Intake Assessment.

OMB No.: 0970-0461.

Description: This Federal Register Notice (FRN) is a request for a decision to approve the following proposed information collection: Immediate Disaster Case Management (IDCM) Intake Assessment.

The IDCM Intake Assessment is intended to allow Immediate Disaster Case Management workers the ability to collect specific information, which includes demographics, and disaster caused unmet needs, from disaster survivors in order to create an in depth profile within the Electronic Case Management Record System (ECMRS.) This profile will provide a basis for the IDCM worker to generate and make available specific and customized plans of emergency assistance, and provide connections and referrals for disaster affected victims to Federal, state, local resources, which is critical to developing an overall recovery plan for each disaster survivor.

Respondents: Disaster Survivors

Annual Burden Estimates
Instrument | Number of respondents | Number of responses per respondent | Average burden hours per response | Total burden hours
Immediate Disaster Case Management Intake Assessment | 1,000,000 | 1 | 1 | 1,000,000

Estimated Total Annual Burden Hours: 1,000,000.

Additional Information: Copies of the proposed collection may be obtained by writing to the Administration for Children and Families, Office of Planning, Research and Evaluation, 330 C Street SW, Washington, DC 20201. Attention Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2018-11805 Filed 5-31-18; 8:45 am]

BILLING CODE P